DEPARTMENT OF LABOR

Bureau of Labor Statistics

Data Users Advisory Committee; Notice of Meeting and Agenda

The Bureau of Labor Statistics Data Users Advisory Committee will meet on Tuesday, November 10, 2020. In light of the travel restrictions and social distancing requirements resulting from the COVID-19 outbreak, this meeting will be held virtually.

The Committee provides advice to the Bureau of Labor Statistics from the points of view of data users from various sectors of the U.S. economy, including the labor, business, research, academic, and government communities, on technical matters related to the collection, analysis, dissemination, and use of the Bureau's statistics, on its published reports, and on the broader aspects of its overall mission and function.

The schedule and agenda for the meeting are as follows:

12:00 p.m. Introductions

12:30 p.m. Commissioner's welcome and review of agency developments

1:15 p.m. Overview of BLS programs

1:45 p.m. Business Response Survey

2:30 p.m. Reporting operational measures of accuracy and relevance

3:15 p.m. State level Productivity

4:00 p.m. Meeting wrap-up

The meeting is open to the public. Anyone planning to attend the meeting should contact Kathy Mele, Data Users Advisory Committee, at mele.kathy@bls.gov. Any questions about the meeting should be addressed to Ms. Mele. The presentation link will be sent upon request to individuals planning to attend the meeting approximately 24 hours prior to the meeting. Individuals who require special accommodations should contact Ms. Mele at least two days prior to the meeting date.

Signed at Washington, DC, this 9th day of October 2020.
Mark Staniorski,
Chief, Division of Management Systems.

[FR Doc. 2020-22825 Filed 10-14-20; 8:45 am]

BILLING CODE 4510-24-P